DEPARTMENT OF THE INTERIOR

National Park Service

[NPS-WASO-CRPS-NHL-16529; PPWOCRADP2, PCU00RP14.R50000 (166)]

Information Collection Request Sent to the Office of Management and Budget (OMB) for Approval; Nomination of Properties for Designation as National Historic Landmarks

AGENCY: National Park Service, Interior.

ACTION: Notice; request for comments.

SUMMARY: We (National Park Service) have sent an Information Collection Request (ICR) to OMB for review and approval. We summarize the ICR below and describe the nature of the collection and the estimated burden and cost. We may not conduct or sponsor and a person is not required to respond to a collection of information unless it displays a currently valid OMB control number.

DATES: You must submit comments on or before January 11, 2016.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive, Room 2C114, Mail Stop 242, Reston, VA 20192 (mail); or madonna_baucum@nps.gov (email). Please include “1024-NHL” in the subject line of your comments.

FOR FURTHER INFORMATION CONTACT: To request additional information about this ICR, contact Patricia Henry, Historian, National Historic Landmark Program, at patty_henry@nps.gov (email); (202) 354-2216 (telephone); or (202) 371-2229 (fax). You may review the ICR online at http://www.reginfo.gov. Follow the instructions to review Department of the Interior collections under review by OMB.

SUPPLEMENTARY INFORMATION:

I. Abstract

National Historic Landmarks (NHLs) are nationally significant historic places (buildings, sites, structures, objects, or districts) designated by the Secretary of the Interior, because they possess exceptional value or quality in illustrating or interpreting the heritage of the United States. Today, just over 2,500 historic places bear this national distinction. All NHLs are also listed in the National Register of Historic Places.

The Historic Sites Act of 1935 (16 U.S.C. 461-467) directs the Secretary of the Interior (Secretary), through the National Park Service, to survey historic and archeological sites, buildings, and objects to determine those that possess exceptional value in commemorating or illustrating the history of the United States. Designation as an NHL:

• Ensures that stories of nationally important historic events, places, or persons are recognized and preserved for the benefit of all citizens.

• May provide the property's historic character with a measure of protection against any project initiated by the Federal Government.

• May ensure eligibility for grants, tax credits, and other opportunities to maintain a property's historic character.

In accordance with the law and 36 CFR part 65, private citizens, businesses, Federal agencies, State and local public agencies, and Indian tribes may submit nominations for NHL designation. Instructions for submitting a letter of inquiry and completing NPS Form 10-934 are available on the NHL Web site at http://www.nps.gov/nhl/index.htm. We collect the following information:

Letter of Inquiry

Prior to nominating a property for NHL designation, respondents must send a letter of inquiry to the NPS. The letter introduces the property to the NHL Program staff and serves as a formal, written record of initiating the NHL designation process. It provides an overview of the property, its historic significance, and its historic integrity, including, but not limited to:

• Historic importance of the property. What nationally significant story does the property tell?

• Current condition and integrity of the property. Has the property undergone major alterations since the historic period? If so, how extensive are these alterations?

• Support of the property owner. Is the property already listed in the National Register of Historic Places?

• Supporting documents, such as photographs or brochures.

National Historic Landmark Nomination (NPS Form 10-934)

• Name and Location of Property.

• Significance Data (NHL criteria, criteria exceptions, NHL themes, period(s) of significance, significant person(s), cultural affiliation, historic contexts, designer/creator/architect/builder, etc.).

• Sensitive Information (resources, such as archeological sites, that would be adversely affected by amateur excavation or vandalism by the general public if the location were disclosed).

• Geographical Data (acreage, Universal Transverse Mercator (UTM) grid references or latitude/longitude coordinates, and boundaries for the property).

• Significance Statement and Discussion (narrative statement based on documentary research of the property and the specific assessment of how the property qualifies for designation as an NHL).

• Property Description and Statement of Integrity (classifies the property by ownership of the property, type of property, and the number and nature of resources comprising the property).

• Major Bibliographic References (sources from which the documentation given on the form was compiled and the assessment of the property's significance was made).

• Contact Information for Form Preparer.

We review the forms to evaluate the eligibility of the property being nominated and submit them to the Secretary of the Interior's National Park System Advisory Board. The Board recommends those properties that meet the criteria for NHL designation to the Secretary of the Interior. The Secretary decides whether or not to designate a property as an NHL.

II. Data

OMB Control Number: 1024-New.

Title: Nomination of Properties for Designation as National Historic Landmarks, 36 CFR 65.

Service Form Number(s): 10-934.

Type of Request: Existing collection in use without an OMB control number.

Description of Respondents: Individuals; State, tribal, and local governments; businesses; educational institutions; and nonprofit organizations.

Respondent's Obligation: Required to obtain or retain a benefit.

Frequency of Collection: On occasion.

Activity | Number of responses | Completion time per response (hours) | Total annual burden hours
Initial Letter of Inquiry | 20 | 2 | 40
Nominations (Form 10-934) | 30 | 344 | 10,320
Totals | 50 |  | 10,360

Estimated Annual Nonhour Burden Cost: None.

III. Comments

On July 30, 2012, we published in the Federal Register (77 FR 44669) a notice of our intent to request that OMB approve this information collection. In that notice, we solicited comments for 60 days, ending on September 28, 2012. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: December 2, 2015.
Madonna L. Baucum,
Information Collection Clearance Officer, National Park Service.

[FR Doc. 2015-31086 Filed 12-9-15; 8:45 am]

BILLING CODE 4310-EH-P